DEPARTMENT OF ENERGY

Federal Energy Regulatory Commission

Combined Notice of Filings

Take notice that the Commission has received the following Natural Gas Pipeline Rate and Refund Report filings:

Filings Instituting Proceedings

Docket Numbers: PR23-15-000.

Applicants: Hope Gas, Inc.

Description: § 284.123(g) Rate Filing: HGI—2022 PGA Filing to be effective 12/1/2022.

Filed Date: 12/5/22.

Accession Number: 20221205-5041.

Comment Date: 12/23/2022.

184.123(g) Protest: 2/3/2023.

Docket Numbers: RP23-251-000.

Applicants: UGI Mt. Bethel Pipeline Company, LLC.

Description: Annual Report of Operational Purchases and Sales of UGI Mt. Bethel Pipeline, LLC.

Filed Date: 11/30/22.

Accession Number: 20221130-5539.

Comment Date: 5 p.m. ET 12/12/22.

Docket Numbers: RP23-263-000.

Applicants: NEXUS Gas Transmission, LLC.

Description: § 4(d) Rate Filing: Negotiated Rates—Enbridge Gas to DTE Energy 962849 eff 12-3-22 to be effective 12/3/2022.

Filed Date: 12/2/22.

Accession Number: 20221202-5099.

Comment Date: 5 p.m. ET 12/14/22.

Docket Numbers: RP23-264-000.

Applicants: Midwestern Gas Transmission Company.

Description: § 4(d) Rate Filing: Update to Remove Non-Conforming Agreements to be effective 1/7/2023.

Filed Date: 12/2/22.

Accession Number: 20221202-5114.

Comment Date: 5 p.m. ET 12/14/22.

Docket Numbers: RP23-265-000.

Applicants: Rockies Express Pipeline LLC.

Description: § 4(d) Rate Filing: 2022-12-02 Negotiated Rate Agreement to be effective 12/3/2022.

Filed Date: 12/5/22.

Accession Number: 20221205-5000.

Comment Date: 5 p.m. ET 12/19/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-57-005.

Applicants: Algonquin Gas Transmission, LLC.

Description: Compliance filing: New York Delivery Surcharge Verplank Fire eff 1-1-23 to be effective 1/1/2023.

Filed Date: 12/2/22.

Accession Number: 20221202-5118.

Comment Date: 5 p.m. ET 12/14/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2022.
Kimberly D. Bose,
Secretary.

[FR Doc. 2022-26772 Filed 12-8-22; 8:45 am]

BILLING CODE 6717-01-P